DEPARTMENT OF DEFENSE

Office of the Secretary

Notice of Availability of Draft Environmental Assessment for DARPA's Reefense Program, Baker Point, Florida

AGENCY: Defense Advanced Research Projects Agency (DARPA), Department of Defense (DoD).

ACTION: Notice; availability of a draft environmental assessment; request for comments.

SUMMARY: DARPA announces the availability of a Draft Environmental Assessment (EA) for the Reefense Program at Baker Point, Florida. DARPA is requesting comment on this draft EA.

DATES: The 30-day public comment period begins on May 6, 2024, and extends to June 5, 2024. Comments must be submitted electronically via the website no later than 11:59 p.m. Eastern Standard Time on June 5, 2024.

ADDRESSES: DARPA invites all interested parties to submit comments on the Draft EA through the project website https://hsrl.rutgers.edu/research/darpa-reefense.

FOR FURTHER INFORMATION CONTACT: Dr. Catherine Campbell, 703-526-2044 (Voice), Catherine.Campbell@darpa.mil (Email).

SUPPLEMENTARY INFORMATION: Publication of this notice begins the official public comment period for this draft EA. Per the National Environmental Policy Act (NEPA), the purpose of the draft EA is to evaluate the potential direct, indirect, and cumulative impacts caused by the Reefense program at Baker Point, FL. All comments received will become part of the public record and will be available for review.

Background

DARPA proposes to fund the development of bio-hybrid reef structures to help attenuate wave energy and protect United States (U.S.) DoD and coastal infrastructure through the Reefense Program (the Proposed Action). The strategy of DARPA's Reefense program includes employing recent innovations in materials science, hydrodynamic modeling, and adaptive biology to develop growing structures that are optimized to rapidly implement coastal defenses suited to a changing environment. DARPA's Reefense program involves the construction of custom wave-attenuating base structures to promote growth of reef-building organisms (e.g., coral or oysters). The reef-building organisms would enable the Reefense structures to naturally self-heal and keep pace with sea level rise over time. Reefense structures would also include components to attract non-reef building organisms necessary to help maintain a healthy, growing reef. Finally, adaptive biology would enable improved resilience against disease and temperature stress for organisms present, to ensure compatibility with a changing environment. As soon as the Reefense structures are deployed, they would immediately attenuate coastal wave energy. As the structures facilitate the growth of the reef-building organisms, they would provide a biological benefit (e.g., habitat for mobile reef species) in just a few months or years that would be equivalent to decades of growth for a similarly-sized naturally-occurring reef.

National Environmental Policy Act

This notice is provided pursuant to NEPA regulations at 40 CFR 1506.6 and the draft EA was prepared in accordance with NEPA regulations at 40 CFR parts 1500-1508.

Alternatives Considered

Preferred Alternative: DARPA's proposed action is the deployment of Reefense structures at Baker Point, Florida. Deployment would occur over two phases with multiple components being proposed for each deployment. Components would consist of reef module breakwaters, mosaic oyster habitat structures (varying in height with low, medium, and high relief structures), and intertidal vegetation planting.

No Action Alternative: Under the No Action Alternative, the Proposed Action would not occur. No deployment of Reefense structures would occur within the proposed action area, and the Baker Point area would be left undeveloped unless/until other in-water construction is proposed as part of a future project. The No Action Alternative would not meet the purpose of and need for the Proposed Action because there would be no furthering of research on climate change-related shoreline protection; however, as required by CEQ Regulations (40 CFR 1502.14), the No Action Alternative is carried forward for analysis in this draft EA. The No Action Alternative will be used to analyze the consequences of not undertaking the Proposed Action, not simply conclude no impact, and will serve to establish a comparative baseline for analysis.

DARPA will publish a record of its final action in the Federal Register.

Dated: April 30, 2024.
Aaron T. Siegel,
Alternate OSD Federal Register Liaison Officer, Department of Defense.

[FR Doc. 2024-09751 Filed 5-3-24; 8:45 am]

BILLING CODE 6001-FR-P